ENVIRONMENTAL PROTECTION AGENCY

[ER-FRL-6654-8]

Environmental Impact Statements; Notice of Availability

Responsible Agency: Office of Federal Activities, General Information (202) 564-7167 or http://www.epa.gov/compliance/nepa.

Weekly receipt of Environmental Impact Statements filed August 9, 2004 through August 13, 2004 pursuant to 40 CFR 1506.9.

EIS No. 040380, FINAL EIS, COE, CA, Napa River Salt Marsh Restoration Project, Salinity Reduction and Habitat Restoration in the Napa River Unit, San Pablo Bay, Napa and Solano Counties, CA. Wait Period Ends: September 20, 2004. Contact: Shirlin Tolle (415) 977-8467.

EIS No. 040381, FINAL EIS, COE, AL, Choctaw Point Terminal Project, Construction and Operation of a Container Handling Facility, Department of the Army (DA) Permit Issuance, Mobile County, AL. Wait Period Ends: September 20, 2004. Contact: Dr. Susan Ivester Rees (251) 694-4141.

EIS No. 040382, DRAFT EIS, FHW, CA, Bautista Canyon Road Project, California Forest Highway 224, Improvements between Florida Avenue (CA-74) and CA-371, Special-Use-Permit, NPDES Permit, U.S. Army COE Section 10 and 404 Permit, Riverside County, CA. Due: October 4, 2004. Contact: Stephen Hallisy (720) 963-3685.

EIS No. 040383, DRAFT EIS, FTA, WA, Adoption—WA-104 Edmonds Crossing, Connecting Ferries, Buses and Rails, Funding, NPDES Permit and U.S. Army COE Section 10 and 404 Permits Issuance, City of Edmonds, Snohomish County, WA. Contact: Jennifer Bowman (206) 220-7933.

The U.S. Department of Transportation's (DOT's) Federal Transit Administration (FTA) has adopted DOT's Federal Highway Administration DEIS #980063, filed on 03/02/1998. FTA was a Cooperating Agency on the DEIS, Recirculation of the DEIS is Not Necessary under Section 1506.3(c) of the CEQ Regulations. FTA will be a Joint Lead Agency on the FEIS, will accept comments on the FEIS.

EIS No. 040384, FINAL EIS, FHW, CA, CA-905 Freeway or Tollway Construction Project, Route Location, Adoption and Construction, Otay Mesa Port of Entry to I-805, Funding and U.S. Army COE Section 404 Permit Issuance, San Diego County, CA. Wait Period Ends: September 20, 2004. Contact: John Chisholm (858) 616-6638.

EIS No. 040385, FINAL EIS, AFS, WA, Crystal Mountain Master Development Plan, To Provide Winter and Summer Recreational Use, Special-Use-Permit, Mt. Baker-Snoqualmie National Forest, Silver Creek Watershed, Pierce County, WA. Due: September 20, 2004. Contact: Larry Donovan (415) 744-3403. This document is available on the Internet at: http://www.fs.fed.us/r6/mbs/projects/crystal_eis.

EIS No. 040386, FINAL EIS, EPA, ADOPTION, Gulf of Mexico Outer Continental Shelf Oil and Gas. Lease Sales: 2003-2007, Proposed Reissuance of NPDES General Permit GMG 290000 for New and Existing Sources in the Offshore Subcategory of the Oil and Gas Extraction Point Source Category, Western Portion of Outer Continental Shelf of the Gulf of Mexico. Wait Period Ends: September 20, 2004. Contact: Hector Pena (214) 665-7453.

U.S. Environmental Protection Agency (EPA) has adopted the U.S. Department of Interior's Minerals Management Service (MMS) FEIS #02459 filed on 11/05/2002. EPA was not a Cooperating Agency on the above FEIS. Recirculation of the document is necessary under Section 1506.3(b) of the CEQ Regulations.

EIS No. 040387, DRAFT EIS, AFS, ID, Caribou Sheep Allotment Management Plan Revision, Authorize Continue Livestock Grazing, Caribou-Targhee National Forest, Palisades Ranger District, Bonneville County, ID. Comment Period Ends: October 4, 2004. Contact: Greg Hanson (208) 523-1412.

EIS No. 040388, DRAFT EIS, FRC, LA, Sabine Pass Liquefied Natural Gas (LNG) and Pipeline Project, Construction and Operation LNG Import Terminal and Natural Gas Pipeline Facilities, Several Permits, Cameron Parish, LA. Comment Period Ends: October 5, 2004. Contact: Thomas Russo (866) 208-3372.

EIS No. 040389, DRAFT SUPPLEMENT, FHW, MN, WI MN-36/WI-64 St. Croix River Crossing Project, Construction of a New Crossing between the Cities of Stillwater and Oak Park Heights in Washington County, MN and the Town of St. Joseph in St. Croix County, WI. Comment Period Ends: October 4, 2004. Contact: Cheryl Martin (651) 291-6120.

EIS No. 040390, DRAFT EIS, FHW, MT U.S. Highway 89 Improvements from Browning to Hudson Bay Divide, Endangered Species Act, NPDES Permit and U.S. Army COE Section 404 Permit, Glacier County, MT. Comment Period Ends: October 12, 2004. Contact: Dale Paulson (406) 449-5302.

EIS No. 040391, DRAFT EIS, COE, CA Prado Basin Water Supply Feasibility Study, To Increase Conservation of Surplus Water at Prado Dam and Flood Control Basin, Orange County, Water District, Orange, Riverside and San Bernardino Counties, CA. Comment Period Ends: October 4, 2004. Contact: Alex Watt (213) 452-3860.

EIS No. 040392, DRAFT EIS, AFS, MT West Side Reservoir Post-Fire Project, Proposed Implementation of Timber Salvage and Access Management Treatments, Flathead National Forest, Hungry Horse and Spotted Bear Ranger Districts, Flathead County, MT. Comment Period Ends: October 6, 2004. Contact: Bryan Donner (406) 863-5408.

EIS No. 040393, FINAL EIS, AFS, AK Gravina Island Timber Sale, Implementation, Timber Harvest and Related Activities, Ketchikan-Misty Fiords Ranger District, Tongass National Forest, AK. Wait Period Ends: September 20, 2004. Contact: Rob Reeck (907) 228-4114.

Amended Notices

Cottonwood Fire Vegetation Management Project, Control Vegetation Competing with Conifer Seedlings, Sierraville Ranger District, Tahoe National Forest, Sierra County, CA.

Comment Period Ends: September 20, 2004.

Contact: Teri Banka (530) 994-3401 Ext. 6644. Revision of FR Notice published on 8/6/04: Correction to Status from Draft Revise to Draft EIS. Comment Period Still Ends on 9/20/2004.

Dated: August 17, 2004.
Robert W. Hargrove,
Division Director, NEPA Compliance Division, Office of Federal Activities.

[FR Doc. 04-19148 Filed 8-19-04; 8:45 am]

BILLING CODE 6560-50-U